DEPARTMENT OF JUSTICE

Antitrust Division

Notice Pursuant to the National Cooperative Research and Production Act of 1993—Cooperative Research Group on Wet Gas Compression Consortium

Notice is hereby given that, on May 19, 2015, pursuant to section 6(a) of the National Cooperative Research and Production Act of 1993, 15 U.S.C. 4301 et seq. (“the Act”), Southwest Research Institute—Cooperative Research Group on Wet Gas Compression Consortium (“WGCC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Petróleo Brasileiro S.A.—Petrobras, Rio de Janeiro, BRAZIL; MAN Diesel & Turbo Schweiz AG, Zurich, SWITZERLAND; Dresser-Rand, Houston, TX; ExxonMobil Upstream Research Company, Spring, TX; Hitachi, Ltd., Tsuchiura, JAPAN; Solar Turbines Incorporated, San Diego, CA; FMC Technologies Kongsberg Subsea AS, Kongsberg, NORWAY; and Ingersoll-Rand Company, Buffalo, NY. The general area of WGCC's planned activity is to improve the physical understanding of wet gas compression by studying turbomachinery operation and performance in wet gas conditions. The goals of the WGCC are to cost-effectively provide a fundamental understanding of wet gas compression, identify current knowledge gaps, and suggest future research required to close those knowledge gaps.

Patricia A. Brink,
Director of Civil Enforcement, Antitrust Division.

[FR Doc. 2015-15559 Filed 6-24-15; 8:45 am]

BILLING CODE 4410-11-P